Proclamation 9622 of May 31, 2017

National Ocean Month, 2017

By the President of the United States of America

A Proclamation

National Ocean Month celebrates the mighty oceans and their extraordinary resources. This month, we recognize the importance of harnessing the seas for our national security and prosperity.

Thirty-four years ago, President Ronald Reagan proclaimed the creation of the U.S. Exclusive Economic Zone, making clear America's sovereign right to explore, exploit, conserve, and manage ocean resources extending 200 nautical miles from our shores. This is the world's largest Exclusive Economic Zone, spanning more than 3.4 million square nautical miles—an area larger than the combined landmass of all 50 States. We must recognize the importance of our offshore areas to our security and economic independence, all while protecting the marine environment for present and future generations.

Today, our offshore areas remain underutilized and often unexplored. We have yet to fully leverage new technologies and unleash the forces of economic innovation to more fully develop and explore our ocean economy. In the field of energy, we have just begun to tap the potential of our oceans' oil and gas, wind, wave, and tidal resources to power the Nation. The fisheries resources of the United States are among the most valuable in the world. Growing global demand for seafood presents tremendous opportunities for expansion of our seafood exports, which can reduce our more than $13 billion seafood trade deficit.

NOW, THEREFORE, I, DONALD J. TRUMP, by virtue of the authority vested in me by the Constitution and the laws of the United States, do hereby proclaim June 2017 as National Ocean Month. This month, I call upon Americans to reflect on the value and importance of the oceans not only to our security and economy, but also as a source of recreation, enjoyment, and relaxation.

IN WITNESS WHEREOF, I have hereunto set my hand this thirty-first day of May, in the year of our Lord two thousand seventeen, and of the Independence of the United States of America the two hundred and forty-first.

[FR Doc. 2017-11779

Filed 6-2-17; 11:15 am]

Billing code 3295-F7-P